DEPARTMENT OF JUSTICE

National Institute of Corrections

Advisory Board Meeting

Time and Date: 8 AM-4:30 PM on Monday, April 02, 2012; 8 AM-12 PM on Tuesday, April 03, 2012.

Place: Federal Bureau of Prisons, 500 First Street, NW., Washington, DC 20534, (202) 514-4222.

Matters To Be Considered: Directors report; review of outcomes of November 2-3, 2011 Advisory Board Hearing (Shifting the Focus to Reshape Our Thinking Toward Performance Based Outcomes), presentations, future planning.

Contact Person For More Information: Thomas Beauclair, Deputy Director, (202) 307-3106, extension 44254.

Morris L. Thigpen, Sr.,
Director, National Institute of Corrections.

[FR Doc. 2012-5682 Filed 3-8-12; 8:45 am]

BILLING CODE M